DEPARTMENT OF COMMERCE

International Trade Administration

[A-570-919; A-602-806]

Electrolytic Manganese Dioxide From Australia and the People's Republic of China: Final Results of the Expedited First Sunset Reviews of the Antidumping Duty Orders

AGENCY: Enforcement and Compliance, Formerly Import Administration, International Trade Administration, Department of Commerce.

SUMMARY: On September 3, 2013, the Department of Commerce (“the Department”) initiated the first sunset reviews of the antidumping duty (“AD”) orders on electrolytic manganese dioxide (“EMD”) from Australia and the People's Republic of China (“PRC”) pursuant to section 751(c) of the Tariff Act of 1930, as amended (“the Act”). Based on the notice of intent to participate and adequate substantive response filed by the domestic interested party, and the lack of response from any respondent interested party, the Department conducted expedited (120-day) sunset reviews of these AD orders, pursuant to section 751(c)(3)(B) of the Act and 19 CFR 351.218(e)(1)(ii)(C)(2). As a result of these sunset reviews, the Department finds that revocation of the AD orders would likely lead to continuation or recurrence of dumping at the levels indicated in the “Final Results of Sunset Reviews” section of this notice.

DATES: Effective Date: February 3, 2014.

FOR FURTHER INFORMATION CONTACT: Lori Apodaca or Howard Smith, AD/CVD Operations, Office IV, Enforcement and Compliance, International Trade Administration, U.S. Department of Commerce, 14th Street and Constitution Avenue NW., Washington, DC 20230; telephone: (202) 482-4551 or (202) 482-5193, respectively.

SUPPLEMENTARY INFORMATION:

Background

On August 14 and 18, 2008, the Department published the AD orders on EMD from Australia and the PRC, respectively.¹ On September 3, 2013, the Department published the notice of initiation of the first sunset reviews of the AD orders on EMD from Australia and the PRC, pursuant to section 751(c) of the Act.² On September 12, 2013, pursuant to 19 CFR 351.218(d)(1), the Department received timely and complete notices of intent to participate in the sunset reviews for both orders from Erachem Comilog, Inc. and Tronox LLC (collectively “Domestic Producers”). On October 2, 2013, pursuant to 19 CFR 351.218(d)(3), Domestic Producers filed a timely and adequate substantive response for both orders. The Department did not receive substantive responses from any respondent interested party. As a result, pursuant to section 751(c)(3)(B) of the Act and 19 CFR 351.218(e)(1)(ii)(C)(2), the Department conducted expedited (120-day) sunset reviews of the AD orders on EMD from Australia and the PRC.

¹ See Electrolytic Manganese Dioxide From the People's Republic of China: Final Determination of Sales at Less Than Fair Value, 73 FR 48195 (August 18, 2008) (“PRC Final Determination”); see also Notice of Final Determination of Sales at Less Than Fair Value and Termination of Critical-Circumstances Investigation: Electrolytic Manganese Dioxide from Australia, 73 FR 47586 (August 14, 2008) (“Australia Final Determination”).

² See Initiation of Five-Year (“Sunset”) Review, 78 FR 54237 (September 3, 2013).

As explained in the memorandum from the Assistant Secretary for Enforcement and Compliance, the Department has exercised its discretion to toll deadlines for the duration of the closure of the Federal Government from October 1, through October 16, 2013.³ Therefore, all deadlines in this segment of the proceeding have been extended by 16 days. The revised deadline for the final results of this sunset review is now January 21, 2014.

³ See Memorandum for the Record from Paul Piquado, Assistant Secretary for Enforcement and Compliance, “Deadlines Affected by the Shutdown of the Federal Government” (October 18, 2013).

Scope of the Orders

The merchandise covered by these orders includes all manganese dioxide (MnO[2]) that has been manufactured in an electrolysis process, whether in powder, chip, or plate form. Excluded from the scope are natural manganese dioxide (NMD) and chemical manganese dioxide (CMD). The merchandise subject to these orders is classified in the Harmonized Tariff Schedule of the United States (“HTSUS”) at subheading 2820.10.00.00. While the HTSUS subheading is provided for convenience and customs purposes, the written description of the scope of these orders is dispositive.

Analysis of Comments Received

A complete discussion of all issues raised in these sunset reviews is provided in the accompanying Issues and Decision Memorandum, which is hereby adopted by this notice.⁴ The issues discussed in the I&D Memorandum include the likelihood of continuation or recurrence of dumping and the magnitude of the dumping margins likely to prevail if the orders are revoked. The I&D Memorandum is a public document and is on file electronically via Enforcement and Compliance's Antidumping and Countervailing Duty Centralized Electronic Service System (“IA ACCESS”). Access to IA ACCESS is available in the Central Records Unit, room 7046 of the main Department of Commerce building. In addition, a complete version of the I&D Memorandum can be accessed at http://enforcement.trade.gov/frn/. The signed I&D Memorandum and the electronic versions of the I&D Memorandum are identical in content.

⁴ See “Issues and Decision Memorandum for the Expedited First Sunset Reviews of the Antidumping Duty Orders on Electrolytic Manganese Dioxide from Australia and the People's Republic of China,” from Abdelali Elouaradia, Director, Office IV, Antidumping and Countervailing Duty Operations, to Christian Marsh, Deputy Assistant Secretary for Antidumping and Countervailing Duty Operations, dated concurrently with this notice (“I&D Memorandum”).

Final Results of Sunset Reviews

The Department determines that revocation of the AD orders on EMD from Australia and the PRC would be likely to lead to continuation or recurrence of dumping, with the following dumping margins likely to prevail:

Exporter/producer | Weighted- average percentage margin
PRC
Guizhou Redstar Developing Import & Export Company, Ltd./Guizhou Redstar Developing Dalong Manganese lndustrial Co., Ltd. | 149.92
PRC-Wide Entity (including Xiangtan Electrochemical Scientific Ltd.) | 149.92
Australia
Delta Australia Pty Ltd. | 83.66
All Others | 83.66

Notification Regarding Administrative Protective Orders

This notice also serves as the only reminder to parties subject to administrative protective orders (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act and 19 CFR 351.218.

Dated: January 16, 2014.
Christian Marsh,
Deputy Assistant Secretary, for Antidumping and Countervailing Duty Operations.

[FR Doc. 2014-02240 Filed 1-31-14; 8:45 am]

BILLING CODE 3510-DS-P